DEPARTMENT OF HOUSING AND URBAN DEVELOPMENT

[Docket No. FR-5600-FA-28]

Announcement of Funding Awards for the Section 811 Project Rental Assistance Demonstration Program Fiscal Year 2012

AGENCY: Office of the Assistant Secretary for Housing—Federal Housing Commissioner, HUD.

ACTION: Notice of funding awards.

SUMMARY: In accordance with section 102 (a)(4)(C) of the Department of Housing and Urban Development Reform Act of 1989, this announcement notifies the public of funding decisions made by the Department in a competition for funding under the Notice of Funding Availability (NOFA) for the Section 811 Project Rental Assistance Demonstration Program. This announcement contains the names of the awardees and the amounts of the awards made available by HUD.

FOR FURTHER INFORMATION CONTACT: Ms. Catherine Brennan, Director, Office of Housing Assistance and Grant Administration, 451 7th Street SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Section 811 Project Rental Assistance Demonstration Program is authorized by The Frank Melville Supportive Housing Investment Act of 2010 (Pub. L. 11-374; approved January 4, 2011).

The NOFA was published on Grants.gov on May 15, 2012. Applications were rated and selected for funding on the basis of selection criteria contained in that Notice.

The Catalog of Federal Domestic Assistance number for this program is 14.181.

Under this program, HUD provides project based rental assistance funds to state housing finance agencies to award and administer to multifamily rental properties.

A total of $97,849,801 was awarded to 13 states to assist 3501 housing units nationwide. In accordance with section 102(a)(4)(C) of the Department of Housing and Urban Development Reform Act of 1989 (103 Stat. 1987. 42 U.S.C. 3545), the Department is publishing the awardees and amounts of the awards in Appendix A of this document.

Dated: October 29, 2013.
Carol J. Galante,
Assistant Secretary for Housing—Federal Housing Commissioner.

Appendix A—FY 2012 Section 811 Project Rental Assistance Demonstration Program Awards
Grantee | Units | Amount Funded
California Housing Finance Agency | 335 | $11,870,256
Delaware State Housing Authority | 170 | 5,100,753
Georgia Housing and Finance Authority | 150 | 4,160,771
Illinois Housing Development Authority | 826 | 11,982,009
Louisiana Housing Corporation | 200 | 8,254,097
Maryland Dept. of Housing and Community Development | 150 | 10,917,383
Massachusetts Dept. of Housing and Community Development | 100 | 5,276,452
Minnesota Housing Finance Agency | 95 | 3,000,000
Montana Department of Commerce | 82 | 2,000,000
North Carolina Housing Finance Agency | 533 | 12,000,000
Pennsylvania Housing Finance Agency | 200 | 5,707,800
Texas Department of Housing and Community Affairs | 385 | 12,000,000
Washington State Department of Commerce | 275 | 5,580,280
Total | 3,501 | 97,849,801

[FR Doc. 2013-26873 Filed 11-7-13; 8:45 am]

BILLING CODE 4210-67-P